DEPARTMENT OF DEFENSE

Office of the Secretary

[DOD-2007-OS-0121]

Privacy Act of 1974; Systems of Records

AGENCY: Defense Finance and Accounting Service, DOD.

ACTION: Notice To Add a New System of Records.

SUMMARY: The Defense Finance and Accounting Service (DFAS) is proposing to add a system of records notice to its inventory of record systems subject to the Privacy Act of 1974 (5 U.S.C. 552a), as amended.

DATES: This action will be effective without further notice on December 14, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on November 5, 2007, to the House Committee on Oversight and Government Reform, the Senate Committee on Governmental Affairs, and the Office of Management and Budget (OMB) pursuant to paragraph 4c of Appendix I to OMB Circular No. A-130, “Federal Agency Responsibilities for Maintaining Records About Individuals,” dated December 12, 2000, 65 FR 239.

Dated: November 7, 2007.
L.M. Bynum,
Alternate OSD Federal Register Liaison Officer, Department of Defense.

T7330a

System name:

Salary Offset Reporting System (SORS).

System location:

Defense Finance and Accounting Service—Cleveland, 1240 East Ninth Street, Cleveland, OH 44199-8006.

Defense Finance and Accounting Service—Indianapolis, 8899 East 56th Street, Indianapolis, IN 46249-0150.

Categories of individuals covered by the system:

DoD employees that include Active, Reserve, National Guard, and Retired military members, DoD civilian employees, and civilian employees of other non-DoD Federal agencies such as the Department of Energy, the Department of Health and Human Services, the Environmental Protection Agency, the Broadcasting Board of Governors, and the Department of Veterans Affairs for which DFAS provides e-payroll processing services.

Categories of records in the system:

Individual's name, Social Security Number (SSN), delinquent debt balances, collection amounts, and duty status of individuals.

Authority for maintenance of the system:

Debt Collection Improvement Act of 1996; 5 U.S.C. 301, Departmental Regulations; 5 U.S.C. Chapter 53, 55, and 81; 31 U.S.C. 3716; 31 CFR Part 285, 5 CFR Part 550, 26 U.S.C. 6331(h) and 6103(k)6, and E.O. 9397 (SSN).

Purpose(s):

A Web based system which provides for the collection, processing, and reporting of salary offsets for DoD employees who have incurred delinquent debts with non-DoD entities. It will centralize the management of the salary offset process established by the Debt Collection Improvement Act of 1996 for debts owed to the Federal Government by individuals receiving a federal salary.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To individuals authorized to act as a guardian, trustee, or other legal representative of an Active, Reserve, National Guard, or Retired military member, or civilian employee.

To Department of Health and Human Services, Department of Energy, Department of Veterans Affairs, the Environmental Protection Agency, and the Broadcasting Board of Governors for which DFAS provides e-payroll services for the purpose of informing the affected employees and resolving payroll issues.

To the U.S. Department of the Treasury for use in the collection of debts for the Treasury Offset Program.

To the Internal Revenue Service for use in the collection of debts for the Treasury Offset Program.

The DoD “Blanket Routine Uses” published at the beginning of the DoD compilation of systems of records notices apply to this system.

Policies and practices for storing, retrieving, accessing, retaining, and disposing of records in the system:

Storage:

Files in file folders and electronic storage media.

Retrievability:

Individual's name and Social Security Number (SSN).

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed according to agency security policy.

Retention and disposal:

Records may be temporary in nature and destroyed when actions are completed, they are superseded, obsolete, or no longer needed. Other records may be cut off at the end of the payroll year, and destroyed up to 6 years and 3 months after cutoff. Records are destroyed by degaussing, shredding, or burning.

System manager(s) and address:

Salary Offset Manager, Defense Finance and Accounting Service—Cleveland, 1240 East Ninth Street, Cleveland, OH 44199-8006.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's full name, Social Security Number (SSN), current address, telephone number, and provide a reasonable description of what the requestor is seeking.

Record access procedures:

Individuals seeking access to information about themselves contained in this system of records should address written inquiries to Defense Finance and Accounting Service, Freedom of Information/Privacy Act Program Manager, Corporate Communications and Legislative Liaison, 6760 E. Irvington Place, Denver, CO 80279-8000.

Requests should contain individual's full name, Social Security Number (SSN), current address, telephone number, and provide a reasonable description of what the requestor is seeking.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual concerned, Department of Defense Components, Federal agencies owed debts, and from electronic interfaces with the Department of Treasury.

Exemptions claimed for the system:

None.

[FR Doc. E7-22257 Filed 11-13-07; 8:45 am]

BILLING CODE 5001-06-P